NATIONAL SCIENCE FOUNDATION

National Artificial Intelligence Research Resource Task Force; Notice of Meeting

In accordance with the Federal Advisory Committee Act (Pub. L. 92-463, as amended), the National Science Foundation (NSF) announces the following meeting:

Name and Committee Code: National Artificial Intelligence Research Resource Task Force (84629).

Date and Time: February 16, 2022, 11:00 a.m. to 5:00 p.m. EDT.

Place: Virtual meeting attendance only; to attend the virtual meeting, please send your request for the virtual meeting link to the following email: cmessam@nsf.gov.

Type of Meeting: Open.

Contact Person: Brenda Williams, National Science Foundation, 2415 Eisenhower Avenue, Alexandria, VA 22314; telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will receive readouts from working-group discussions held on the topics of user access controls and useable security; privacy, civil rights, and civil liberties requirements; and technical integration of desired capabilities. The Task Force will discuss options for public-private partnerships and sustainment within the design of a NAIRR and deliberate on an outline for the Task Force's interim report.

Dated: November 22, 2021.
Crystal Robinson,
Committee Management Officer.

[FR Doc. 2021-25779 Filed 11-24-21; 8:45 am]

BILLING CODE 7555-01-P